DEPARTMENT OF HEALTH AND HUMAN SERVICES

Centers for Disease Control and Prevention

[30Day-05-0555]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

National Public Health Performance Standards Program Local Public Health System Assessment (OMB 0920-0555)—Revision—Office of the Director, Centers for Disease Control and Prevention (CDC).

Background and Brief Description

The Office of the Director, CDC is proposing to extend the currently approved National Public Health Performance Standards Program Local Public Health System Assessment. From 1998-2002, the CDC National Public Health Performance Standards Program convened workgroups with the National Association of County and City Health Officials (NACCHO), The Association of State and Territorial Health Officials (ASTHO), the National Association of Local Boards of Health (NALBOH), the American Public Health Association (APHA), and the Public Health Foundation (PHF) to develop performance standards for public health systems based on the essential services of public health.

CDC is now proposing to extend the formal, voluntary data collection that assesses the capacity of local public health systems to deliver the essential services of public health. Local health departments will respond to the survey on behalf of the collective body of representatives from the local public health system. Electronic data submission will be used when local public health agencies complete the public health assessment.

The extension will provide additional time for local public health systems to undertake the assessment. Some states have sought to include mention of the assessment in legislation or regulations and are now encouraging their localities to respond to the assessment in the upcoming two years. The focus on bioterrorism and other emerging issues diverted resources and attention from immediate use of the assessment since its national release in 2002. An additional three years of clearance will provide the time necessary to complete the project.

There are no costs to the respondents other than their time. The estimated annualized burden for each extension year is 4,200 hours.

Estimate of Annualized Burden Table
Number of respondents | Number of responses per respondent | Average burden per response (in hours)
175 | 1 | 24

Dated: August 29, 2005.
Joan F. Karr,
Acting Reports Clearance Officer, Centers for Disease Control and Prevention.

[FR Doc. 05-17769 Filed 9-7-05; 8:45 am]

BILLING CODE 4163-18-P